DEPARTMENT OF THE INTERIOR

Bureau of Ocean Energy Management

[OMB Control Number 1010-NEW; Docket ID: BOEM-2024-0007]

Agency Information Collection Activities; Submission to the Office of Management and Budget; Cook Inlet Recreation and Tourism Survey

AGENCY: Bureau of Ocean Energy Management, Interior.

ACTION: Notice of information collection; request for comments.

SUMMARY: In accordance with the Paperwork Reduction Act of 1995, the Bureau of Ocean Energy Management (BOEM) proposes a new information collection request (ICR) to gather information regarding outdoor recreation and tourism in the Cook Inlet Outer Continental Shelf (OCS) Planning Area and adjacent coastal areas.

DATES: Comments must be received by the Office of Management and Budget (OMB) desk officer no later than September 27, 2024.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery service or U.S. mail to the BOEM Information Collection Clearance Officer, Anna Atkinson, Bureau of Ocean Energy Management, 45600 Woodland Road, Sterling, Virginia 20166; or by email to anna.atkinson@boem.gov. Please reference OMB Control Number 1010-NEW in the subject line of your comments.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and Federal agencies with an opportunity to comment on new, proposed, revised, and continuing collections of information. This helps BOEM assess the impact of the information collection requirements and minimize the public's reporting burden. It also helps the public understand BOEM's information collection requirements and provide the requested data in the desired format.

Title of Collection: Cook Inlet Recreation and Tourism Survey.

Abstract: Natural resource-based recreation in the marine and coastal environments of Cook Inlet, Alaska, offers numerous economic, cultural, environmental, health, educational, and quality-of-life benefits. Recreation and tourism play a vital role in supporting local economies, preserving cultural heritage, promoting environmental stewardship, and improving the well-being of both residents and visitors. The OCS Lands Act charges BOEM with managing the energy and mineral resources of the OCS, while protecting marine and coastal environments that support human lives and society. Additionally, to ensure the scientific integrity of its National Environmental Policy Act (NEPA) assessments, BOEM requires reliable data and information to evaluate the extent to which its activities adversely affect the human environment (40 CFR 1502.23). As defined in 40 CFR 1508.1, the effects on the human environment evaluated in NEPA assessments include social and economic impacts, as well as ecological, aesthetic, historic, cultural, and health effects.

BOEM intends to conduct a research study of outdoor recreation and tourism in the Cook Inlet OCS Planning Area and adjacent coastal areas (i.e., the study area). BOEM seeks updated baseline information on the nature, distribution, and seasonality of outdoor recreation and tourism in the study area, and the relative preferences and values for these activities. BOEM would use this information to determine how stakeholders and the recreational and tourism economy may be affected by potential future oil, gas, renewable energy, and other energy exploration and development activities. This study would help BOEM identify any appropriate mitigation strategies to address potential adverse effects of its activities on recreation and tourism in the study area. Altogether, the study would enable BOEM to develop more rigorous and thorough environmental analyses during any NEPA processes related to future Cook Inlet OCS energy and mineral activities.

Specifically, this information collection would involve primary data collection (following ICR approval by OMB) to elicit information on: (a) activities and attributes contributing to the value of recreational experiences; (b) expenditures related to recreational activities; and (c) how these things differ across the region and different user groups (e.g., residents and visitors). The primary research would provide meaningful insight regarding the influence of energy development on recreation and tourism (e.g., by comparing areas in the Upper Cook Inlet with existing energy infrastructure to other areas in Cook Inlet without any energy infrastructure). The study also would document user attitudes regarding how recreation and tourism may be affected by different energy development-related activities (e.g., noise, space use conflicts, aesthetic effects of infrastructure, and vessel traffic).

The study's primary research design would include four components: focus groups, cognitive interviews, onsite intercept surveys, and written surveys. The focus groups and cognitive interviews would be used to develop and pretest a draft written survey, first in a group setting (focus groups) and then in a one-on-one interview setting (cognitive interviews). The onsite survey would include a small number of questions to determine eligibility for recruitment to the written survey. It will be pretested onsite while investigators are in the field for the focus groups. The final onsite and written surveys would be administered at approximately two dozen sites in the study area during the primary recreation season from May to October. Potential respondents would be approached as they arrive to a site and invited to fill out the survey.

1. Focus Groups—To inform survey development, BOEM would conduct focus groups with recreationists in the study area. The recreationists would identify their preferred coastal- and marine-related recreation sites; why they choose their preferred sites; the differences they perceive between sites near existing energy infrastructure (in portions of the Upper Cook Inlet) to sites that are not near any energy infrastructure, and the recreational quality of those sites; what they like about their recreational experiences around Cook Inlet; what they do not like about the Cook Inlet sites they avoid; how offshore energy exploration and development activities may affect their recreation site choice and experience; and other related issues.

2. Cognitive Interviews—The findings of the focus groups would be used to develop a draft written survey instrument. BOEM would then conduct 25 cognitive interviews to test and refine the survey. Specifically, the interviews would test if the survey is working as expected. Factors relevant to that determination include evaluating if questions are easily understood, whether respondents misunderstand the questions in any way, whether response categories are exhaustive and mutually exclusive, and other similar issues.

3. Onsite Intercept Surveys—A short in-person survey to be conducted with recreationists as they arrive at a site. The questions will determine eligibility for recruitment to the written survey, including whether they are participating in recreation activities. The onsite interview will also include selected demographic questions for comparison with respondents to the written survey and evaluation of nonresponse. Surveys would be administered at a range of sites, including public lands, visitor centers, seaports, airports, and marinas. Because the surveys would be administered between May and September, a potential respondent may be intercepted on more than one occasion. If a respondent clarifies that they have already taken the survey, they would not be asked to take it again.

4. Written Surveys—The written survey would cover topics such as recreational destinations, frequency of use in the past 12 months, recreation trip-related expenditures, preferences for recreation site attributes, attitudes about offshore energy projects and impacts of the projects on recreation, and respondent demographics.

OMB Control Number: OMB Control Number 1010-NEW.

Type of Review: New.

Respondents/Affected Public: Participants in the focus groups and cognitive interviews would be members of the public who have engaged in coastal or marine recreation in the study area in the past year. Respondents to the onsite and written surveys would be members of the public engaged in coastal or marine recreational activities in the study area. Members of the public would consist of a mixture of local, State, and out-of-State residents.

Total Estimated Number of Annual Responses: 2,095: 40 focus group participants, 25 cognitive interview participants, 30 pretest onsite surveys, 1,500 completed onsite surveys, and 500 completed written surveys. The focus group questions would be semi-structured and open-ended. Onsite and written survey questions would be primarily discrete choice and closed-ended with minimal open-ended questions.

Estimated Completion Time per Response: 90 minutes per focus group participant, 45 minutes per cognitive interview participant, 1 minute for the onsite survey, and 12 minutes per written survey participant. (BOEM anticipates that the survey would comprise approximately 30 questions with each question taking about 20-30 seconds to complete on average.)

Total Estimated Number of Annual Burden Hours: 205 hours: 60 hours for focus groups, 18.75 hours for cognitive interviews, 30 minutes for the pretest onsite surveys, 25 hours for the onsite survey, and 100 hours for the written survey.

Respondent's Obligation: Voluntary.

Frequency of Collection: One time.

Total Estimated Annual Non-hour Burden Cost: There is no non-hour cost burden associated with this collection.

A Federal Register notice with a 60-day public comment period on this proposed ICR was published on February 9, 2024 (89 FR 9175). One comment was received on February 18, 2024. The commentor recommended prohibiting oil and gas leasing and commercial tourism. While the comment is recognized, it does not change the purpose of or need for the proposed study, nor does it affect the cost or hour burden.

BOEM is again soliciting comments on this proposed ICR. BOEM is especially interested in public comment addressing the following issues: (1) is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record and will be available for public review on www.reginfo.gov. BOEM will include or summarize each comment in its ICR to OMB for approval of this information collection. You should be aware that your entire comment—including your address, phone number, email address, or other personally identifiable information included in your comment—may be made publicly available at any time.

For BOEM to consider withholding from disclosure your personally identifiable information, you must identify, in a cover letter, any information contained in your comment that, if released, would constitute a clearly unwarranted invasion of your personal privacy. You must also briefly describe any possible harmful consequences of the disclosure of information, such as embarrassment, injury, or other harm.

Even if BOEM withholds your personally identifiable information in the context of this ICR, your comment is subject to the Freedom of Information Act (FOIA). Your information will only be withheld if a determination is made that one of the FOIA exemptions to disclosure applies. Such a determination will be made in accordance with the Department of the Interior's (DOI) FOIA implementing regulations (43 CFR part 2) and applicable law.

BOEM will make available for public inspection all comments in their entirety (except privileged or confidential information) submitted by organizations and businesses, or by individuals identifying themselves as representatives of organizations or businesses. BOEM protects privileged and confidential information in accordance with FOIA and DOI's implementing regulations.

An agency may not conduct or sponsor, and a person is not required to respond to, a collection of information unless it displays a currently valid OMB control number.

The authority for this action is the Paperwork Reduction Act of 1995 (44 U.S.C. 3501 et seq.).

Karen Thundiyil,
Chief, Office of Regulatory Affairs, Bureau of Ocean Energy Management.

[FR Doc. 2024-19320 Filed 8-27-24; 8:45 am]

BILLING CODE 4340-98-P